OFFICE OF THE UNITED STATES TRADE REPRESENTATIVE

Notice of Product Exclusion Extensions: China's Acts, Policies, and Practices Related to Technology Transfer, Intellectual Property, and Innovation

AGENCY: Office of the United States Trade Representative (USTR).

ACTION: Notice.

SUMMARY: In prior notices, the U.S. Trade Representative modified the action in the Section 301 investigation of China's acts, policies, and practices related to technology transfer, intellectual property, and innovation by excluding from additional duties certain medical-care products needed to address the COVID-19 pandemic. To support efforts to combat COVID-19, on December 29, 2020, the U.S. Trade Representative announced the extension of certain product exclusions on medical-care and/or COVID response products and further modifications to remove Section 301 duties from additional medical-care and/or COVID response products. This notice announces the U.S. Trade Representative's determination to extend those exclusions.

DATES: The extensions announced in this notice will extend the product exclusions through September 30, 2021. U.S. Customs and Border Protection will issue instructions on entry guidance and implementation.

FOR FURTHER INFORMATION CONTACT: For general questions about this notice, contact Associate General Counsel Philip Butler, Assistant General Counsels Benjamin Allen or Susie Park Hodge, or Director of Industrial Goods Justin Hoffmann at (202) 395-5725. For specific questions on customs classification or implementation of the product exclusions identified in the Annexes to this notice, contact traderemedy@cbp.dhs.gov.

SUPPLEMENTARY INFORMATION:

A. Background

In the course of this investigation the U.S. Trade Representative has imposed additional duties on products of China in four tranches. See 83 FR 28719 (June 20, 2018); 83 FR 40823 (August 16, 2018); 83 FR 47974 (September 21, 2018), as modified by 83 FR 49153 (September 28, 2018); and 84 FR 43304 (August 20, 2019), as modified by 84 FR 69447 (December 18, 2019) and 85 FR 3741 (January 22, 2020).

For each tranche, the U.S. Trade Representative established a process by which U.S. stakeholders could request the exclusion of particular products subject to the action. The U.S. Trade Representative later established a process by which U.S. stakeholders could request the extension of particular exclusions. Additionally, on March 25, 2020, the U.S. Trade Representative requested public comments on possible further modifications to remove Section 301 duties from additional medical-care products to address the COVID-19 pandemic. 85 FR 16987 (March 25, 2020).

In light of the evolving nature of the battle against COVID-19, on December 29, 2020, USTR announced the extension of 80 product exclusions on medical-care and/or COVID response products; further modifications in the form of 19 product exclusions to remove Section 301 duties from additional medical-care and/or COVID response products; and that USTR might consider further extensions and/or modifications as appropriate. See 85 FR 85831 (the December 29 notice).

B. Determination To Extend Certain Exclusions

In light of the continuing efforts to combat COVID-19, the U.S. Trade Representative has determined that it is inappropriate to allow the exclusions for certain products to lapse. Accordingly, pursuant to sections 301(b), 301(c), and 307(a) of the Trade Act of 1974, as amended, the U.S. Trade Representative has determined to extend the 99 product exclusions included in the December 29 notice through September 30, 2021, as specified in the Annex to this notice. The U.S. Trade Representative's decision to extend the 99 product exclusions takes into account public comments previously provided, and the advice of advisory committees the interagency Section 301 Committee.

As provided in the December 29 notice, the exclusions are available for any product that meets the description in the product exclusion. The U.S. Trade Representative may continue to consider further extensions and/or additional modifications as appropriate.

Annex

Effective with respect to goods entered for consumption, or withdrawn from warehouse for consumption, on or after 12:01 a.m. eastern daylight time on April 1, 2021, and before 11:59 p.m. eastern daylight time on September 30, 2021, each of the article descriptions of headings 9903.88.62, 9903.88.63, 9903.88.64 and 9903.88.65 of the Harmonized Tariff Schedule of the United States are modified by deleting “March 31, 2021,” and by inserting “September 30, 2021,” in lieu thereof.

Greta Peisch,
General Counsel, Office of the United States Trade Representative.

[FR Doc. 2021-04946 Filed 3-9-21; 8:45 am]

BILLING CODE 3290-F0-P